DEPARTMENT OF COMMERCE

National Oceanic and Atmospheric Administration

[I.D. 091300A]

Small Takes of Marine Mammals Incidental to Specified Activities; Explosives Testing at Eglin Air Force Base, FL

AGENCY: National Marine Fisheries Service (NMFS), National Oceanic and Atmospheric Administration (NOAA), Commerce.

ACTION: Notice of withdrawal of a request for a small take exemption authorization.

SUMMARY: On October 26, 2000, NMFS was notified by the U.S. Air Force that it was withdrawing its request for an authorization under the Marine Mammal Protection Act (MMPA) to take small numbers of bottlenose and spotted dolphins, by harassment, incidental to explosive testing of obstacle and mine clearance systems at Eglin Air Force Base, FL (Eglin).

ADDRESSES: A copy of the application and/or letter of withdrawal may be obtained by writing to Donna Wieting, Chief, Marine Mammal Conservation Division, Office of Protected Resources, NMFS, 1315 East-West Highway, Silver Spring, MD 20910, or by telephoning the contact listed here.

FOR FURTHER INFORMATION CONTACT: Kenneth Hollingshead 301-713-2055 ext. 128.

SUPPLEMENTARY INFORMATION: On August 6, 2000, NMFS received a small take application, under section 101(a)(5)(D) of the MMPA, from the U.S. Air Force at Eglin Air Force Base, FL. The Air Force, in cooperation with the Naval Surface Warfare Center-Coastal Systems Station, U.S. Navy, requested, on that date, an authorization to take, by harassment and non-serious injury, bottlenose dolphins (Tursiops truncatus), and spotted dolphins (Stenella frontalis), incidental to explosive testing of an obstacle clearance system at Eglin. Eglin is located in the Florida Panhandle approximately midway between the cities of Pensacola and Panama City, FL. The location of the proposed action is on the beach areas on Santa Rosa Island, approximately 27 kilometers (17 mi) west of Destin, FL.

A notice of receipt of the application and proposed incidental harassment authorization (IHA) under the MMPA was published on October 20, 2000 (65 FR 63059), and a 30-day public comment period was provided on the application and proposed authorization. Please refer to that document for additional information on the Air Force request.

On October 26, 2000, NMFS received a letter from the Air Force at Eglin noting that the U.S. Navy does not support the acoustic modeling that was performed for the Biological Assessment under section 7 of the Endangered Species Act or the application for an IHA; in particular, a marine mammal injury threshold criterion of 5 pounds/inch2-milliseconds. The Navy believes that the methodologies and criteria developed by acousticians, energetic scientists, and independent scientific review for the SEAWOLF ship shock trial (63 FR 66069, December 1, 1998), as updated in the shock trial of the USS WINSTON CHURCHILL (65 FR 11542, March 3, 2000), are the appropriate means to establish harassment to marine mammals. As a result, the Air Force has requested NMFS to withdraw the application. The Air Force will inform NMFS if the Navy requests to use Eglin to conduct this or other tests in the future.

Dated: November 6, 2000.
Phil Williams,
Acting Deputy Director, Office of protected Resourses, National marine Fisheries Service.

[FR Doc. 00-29413 Filed 11-15-00; 8:45 am]

BILLING CODE: 3510-22-S